DEPARTMENT OF THE INTERIOR

National Park Service

Notice of Inventory Completion: Pacific Lutheran University, Tacoma, WA

AGENCY: National Park Service, Interior.

ACTION: Notice.

Notice is here given in accordance with the Native American Graves Protection and Repatriation Act (NAGPRA), 25 U.S.C. 3003, of the completion of an inventory of human remains in the possession of Pacific Lutheran University, Pierce County, Tacoma, WA. The human remains were removed from a site in Parkland, Pierce County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Pacific Lutheran University professional staff in consultation with representatives of the Confederated Tribes and Bands of the Yakama Nation, Washington; Confederated Tribes of the Colville Reservation, Washington; Cowlitz Indian Tribe, Washington; Muckleshoot Indian Tribe of the Muckleshoot Reservation, Washington; Nisqually Indian Tribe of the Nisqually Reservation, Washington; and Puyallup Tribe of the Puyallup Reservation, Washington.

Prior to 1938, human remains representing a minimum of one individual were removed from an unidentified site in Parkland, Pierce County, WA. The human remains were originally transferred to a Pacific Lutheran University faculty member who loaned them, along with other items from the same site, to the University of Washington, Burke Museum, Seattle, WA, in 1938. Most of the 1938 loan was returned in the early 1940s. However, the human remains were discovered in the Burke Museum's collections in 1995 and transferred to Pacific Lutheran University. No known individuals were identified. No associated funerary objects are present.

Funerary objects originally found with the remains, but no longer in the possession of either the Burke Museum or Pacific Lutheran University, indicate the human remains were interred during the historic period. The burial site location is located within the area ceded to the United States by the Niskwali, Payullup, Steilacoom, Squaxin, S'Homamish, Stehchass, T'Peeksin, Squiaitl, and Sa-heh-wamish in the treaty of Medicine Creek, December 26, 1854. The burial site location is believed to be located within the area recognized by a final judgment of the United States Court of Claim as the aboriginal land of the Puyallup Tribe of the Puyallup Reservation, Washington.

Officials of Pacific Lutheran University have determined that, pursuant to 25 U.S.C. 3001 (9-10), the human remains described above represent the physical remains of one individual of Native American ancestry. Officials of Pacific Lutheran University also have determined that, pursuant to 25 U.S.C. 3001 (2), there is a relationship of shared group identity that can be reasonably traced between the Native American human remains and the Puyallup Tribe of the Puyallup Reservation, Washington.

Representatives of any other Indian tribe that believes itself to be culturally affiliated with the human remains should contact David R. Huelsbeck, Anthropology Department, Pacific Lutheran University, Tacoma, WA 98447, telephone (253) 535-7196, before November 7, 2005. Repatriation of the human remains to the Puyallup Tribe of the Puyallup Reservation, Washington may proceed after that date if no additional claimants come forward.

Pacific Lutheran University is responsible for notifying the the Confederated Tribes and Bands of the Yakama Nation, Washington; Confederated Tribes of the Colville Reservation, Washington; Cowlitz Indian Tribe, Washington; Muckleshoot Indian Tribe of the Muckleshoot Reservation, Washington; Nisqually Indian Tribe of the Nisqually Reservation, Washington; and Puyallup Tribe of the Puyallup Reservation, Washington that this notice has been published.

Dated: September 1, 2005.
Sherry Hutt,
Manager, National NAGPRA Program.

[FR Doc. 05-20199 Filed 10-6-05; 8:45 am]

BILLING CODE 4312-50-S